DEPARTMENT OF HEALTH AND HUMAN SERVICES

Food and Drug Administration

[FDA 225-03-8002]

Memorandum of Understanding Between the Food and Drug Administration and Virginia Polytechnic Institute and State University

AGENCY: Food and Drug Administration, HHS.

ACTION: Notice.

SUMMARY: The Food and Drug Administration (FDA) is providing notice of a memorandum of understanding (MOU) between FDA and the Virginia Polytechnic Institute and State University to establish terms of collaboration to support shared interests that can proceed through a variety of programs, such as sabbaticals, postdoctoral fellowships, and student internships.

DATES: The agreement became effective March 13, 2003.

FOR FURTHER INFORMATION CONTACT: Peter Pitts, Office of External Relations (HF-10), Food and Drug Administration, 5600 Fishers Lane, Rockville, MD 20857, 301-827-3330.

SUPPLEMENTARY INFORMATION: In accordance with 21 CFR 20.108(c), which states that all written agreements and MOUs between FDA and others shall be published in the Federal Register, the agency is publishing notice of this MOU.

Dated: February 2, 2004.
Jeffrey Shuren,
Assistant Commissioner for Policy.

BILLING CODE 4160-01-S

[FR Doc. 04-2738 Filed 2-9-04; 8:45 am]

BILLING CODE 4160-01-C